DEPARTMENT OF HEALTH AND HUMAN SERVICES

Health Resources and Services Administration

Advisory Council; Notice of Meeting; Correction

In Federal Register Document 00-1032 appearing on page 2634 in the issue for Tuesday, January 18, 2000, the February 10-11, 2000, meeting dates of the “National Advisory Council on Migrant Health” are incorrect. The meeting will be held on February 11-12, 2000; 9:00 a.m.-5:00 p.m.

All other information is correct as it appears.

Dated: January 28, 2000.
Jane M. Harrison,
Director, Division of Policy Review and Coordination.

[FR Doc. 00-2434 Filed 2-3-00; 8:45 am]

BILLING CODE 4160-15-P